DEPARTMENT OF THE INTERIOR

National Park Service

[NPS-WASO-NRNHL-DTS#-27759; PPWOCRADI0, PCU00RP14.R50000]

National Register of Historic Places; Notification of Pending Nominations and Related Actions

AGENCY: National Park Service, Interior.

ACTION: Notice.

SUMMARY: The National Park Service is soliciting comments on the significance of properties nominated before April 20, 2019, for listing or related actions in the National Register of Historic Places.

DATES: Comments should be submitted by May 17, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before April 20, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARKANSAS

Conway County

Museum of Automobiles, 8 Jones Ln., Winrock vicinity, SG100003990

Craighead County

Jonesboro U.S. Post Office and Courthouse, 524 S. Church St., Jonesboro, SG100003987

Crawford County

Our Lady of the Ozarks Shrine, 22741 US 71, Winslow vicinity, SG100003993

Desha County

Pickens, R.A., II, House, 1 Pickens Pl., Pickens, SG100003992

Lonoke County

Morris House, 16284 AR 89, Lonoke, SG100004000

Phillips County

Temple Beth El Cemetery, NW of intersection of Mable St. & Holly St./Sterling Rd., Helena, SG100003984

Pope County

Norwood, William H., House, 1602 W. Main St., Russellville, SG100003988

Pulaski County

National Old Line Insurance Company Building, 501 Woodlane St., Little Rock, SG100003985

Arkansas Territorial Restoration Historic District, W. side of Cumberland between 2nd & 3rd Sts., Little Rock, SG100003998

Empire Life Insurance Company of America Building, 2801 W. Roosevelt Rd., Little Rock, SG100004002

Randolph County

Yadkin Church, W. side of Upper James Creek Rd. approx. 1 mi. N. of jct. with Lower James Creek Rd., Ravenden Springs vicinity, SG100004003

Washington County

Ellis Building, 208 N. Block Ave., Fayetteville, SG100003982

Muxen Building, 22733 N. US 71, Winslow vicinity, SG100003986

Johnson, Benjamin Franklin, II, Homestead District, 3150 W. Pear Ln., Fayetteville, SG100003989

White County

Mount Olive-Bedford Chapel Cemetery, SW of the intersection of Nix & Manning Rds., Mt. Vernon vicinity, SG100003997

IOWA

Des Moines County

Prairie Grove School, 13598 Beaverdale Rd., W. Burlington vicinity, SG100003973

KENTUCKY

Woodford County

Heartland, 1470 Clifton Rd., Versailles vicinity, SG100004004

MISSOURI

St. Louis Independent City

Columbia Oil Company, 3419 Papin St., St. Louis, SG100004006

TEXAS

Comal County

Comal Springs, (El Camino Real de los Tejas National Historic Trail MPS), Address Restricted, New Braunfels, MP100003970

Houston County

Swale at Mission Tejas State Park, (El Camino Real de los Tejas National Historic Trail MPS), Address Restricted, Grapeland vicinity, MP100003971

Travis County

Onion Creek Crossing at McKinney Falls, (El Camino Real de los Tejas National Historic Trail MPS), McKinney Falls State Park, 5808 McKinney Falls Pkwy, Austin, MP100003972

VIRGINIA

Alexandria Independent City

Swann—Daingerfield House, 712 Prince St., Alexandria, SG100003979

Mecklenburg County

Whittle's Mill Dam, 1793 Bridge Rd., South Hill, SG100003980

Portsmouth Independent City

Abigarlos, 3321 Carney Farm Ln., Portsmouth, SG100003975

Richmond Independent City

Deep Run Hunt Club Rosedale Lodge, 1900 Avondale Ave., Richmond, SG100003977

Rockingham County

Silver Lake Historic District, Silver Lake Rd. (VA 701), Linhoss Rd. (VA 735), Dayton, SG100003978

A request to move has been received for the following resources:

ARKANSAS

Columbia County

Old Alexander House, NE of Magnolia, Magnolia vicinity, MV79000435

Jackson County

Jackson Guards Memorial, (Civil War Commemorative Sculpture MPS), Jacksonport State Park, jct. of Washington and Avenue Sts., Jacksonport, MV96000465

Additional documentation has been received for the following resources:

ARKANSAS

Benton County

Rogers Commercial Historic District (Boundary Increase), (Benton County MRA), Roughly bounded by Walnut, First, Poplar and Second Sts., Rogers, AD93001028

Garland County

Hot Springs Central Avenue Historic District, Central Ave., from Prospect to Park Sts., Hot Springs, AD85001370

Pulaski County

Porter, Lamar, Athletic Field, Jct. of Johnson and 7th Sts., Little Rock, AD90001827

Sebastian County

West Garrison Avenue Historic District, 100—525 Garrison Ave., Fort Smith, AD79000464

KANSAS

Doniphan County

Kinkead, George, Barn, (Byre and Bluff Barns of Doniphan County TR), Off US 36, Troy, AD86003542

WISCONSIN

Richland County

A. D. German Wholesale Company and Warehouse, Additional Documentation, 177 E Haseltine St., 316 S Church St., Richland Center, AD74000122

Authority: Section 60.13 of 36 CFR part 60.

Dated: April 23, 2019.
Kathryn G. Smith,
Acting Chief, National Register of Historic Places/National Historic Landmarks Program.

[FR Doc. 2019-08923 Filed 5-1-19; 8:45 am]

BILLING CODE 4312-52-P